DEPARTMENT OF COMMERCE

Foreign-Trade Zones Board

[B-21-2026]

Foreign-Trade Zone (FTZ) 183, Notification of Proposed Production Activity; Ultra Clean Technology Systems and Service, Inc.; (Inputs Primarily for Semiconductor Industry); Manor, Texas

Ultra Clean Technology Systems and Service, Inc. submitted a notification of proposed production activity to the FTZ Board (the Board) for its facility in Manor, Texas within FTZ 183. The notification conforming to the requirements of the Board's regulations (15 CFR 400.22) was received on February 17, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: plastic tubing for fluid transfer; plastic connectors for tubing; plastic flow control valves; rubber hoses with fittings; rubber tubing; cold-drawn stainless-steel seamless tubing; pneumatic steel tubing; steel pipe fittings; stainless steel flanges; stainless steel fittings; stainless steel butt-weld pipe fittings; stainless steel pipe fittings (non-butt-weld); tube fittings; nickel alloy tubing; flexible tubing fittings; reducer weldment assemblies; filter assemblies; purifier assemblies; overhead traveling cranes; head motor removal tool assemblies; portable automatic data processing machines; pneumatic bank manifolds; manually operated valves for pipes; valves with pneumatic actuators; internal pressure-regulator assembles used in valves; coupling; machinery used in producing semiconductor devices or integrated circuits; gas delivery subassemblies used to control and distribute process gases to semiconductor wafer fabrication equipment; mounting brackets designed for semiconductor manufacturing equipment; power supply units; electric heater assemblies; flat panel display module; electrical push-button switches; optical cable connectors; electrical control panels; printed circuit assemblies for electrical control equipment; electrical control modules for electrical systems; photosensitive semiconductor receivers with integrated cable; insulated electrical conductors; fiber optic assemblies; electronic depth gauges; flow meters; mass flow controller; mass flow meters; adaptor base assemblies; input manifold assemblies; automatic thermostats; and, level controllers for liquids (duty rate ranges from duty-free to 6.2%).

The proposed foreign-status materials/components include: quartz sand; nitric acid; acrylic based paint; expanded polystyrene (EPS) plastic material; tubes of polypropylene plastic; plastic tubing for fluid transfer; pneumatic harnesses (polyurethane tubing); polyline tubing; plastic connectors for tubing; plastic flow control valves; non-vinyl plastic floor coverings; plastic ethylene bags; vulcanized rubber industrial tubing; reinforced rubber hoses with fittings; rubber tubes with fittings; rubber fittings; reinforced rubber hoses without fittings; reinforced rubber hoses with metal-reinforced fittings; industrial transmission belts; protective outer surface cases; wood packaging boxes; printed paper labels; manuals; cleaning manuals; printed trade materials; printed informational materials; labels; refractory ceramic products; fused quartz glass reactor holders; alloy steel tubes; seamless carbon steel pipes; welded cold-drawn circular non-alloy steel tubing; welded stainless steel tubes with circular cross-sections; welded circular carbon steel pipes; welded non-alloy steel tubes with circular cross-section; welded stainless steel tubes; cast iron pipe fittings; stainless steel flanges; substrate pipe fittings; steel flanges; non-stainless steel pipe fittings; stainless steel welded fittings; steel pipe nipples; steel wire cables with fittings; metal alloy screws; zinc screws; non-threaded steel fasteners; helical steel springs; steel springs; cast steel mounting elements; carbon steel tube fittings for industrial use; refined copper pipe fittings; copper gaskets; copper threaded fastener hooks; copper sanitary fittings; fabricated copper buss bar; nickel alloy tubing; nickel alloy fitting; aluminum plates; aluminum fittings; tantalum waste; tapping tools; clamps; hand tool sets; non-metal cutting tool attachments; hand tool cutting attachments; interchangeable tool holders; latches; base metal mounting brackets; base metal fittings; flexible metal tubing fittings; flexible base metal tubing with fittings; base metal clamps; pneumatic linear actuators; pump hardware used with fluid pumps; vacuum pumps; electric axial fans used to circulate air; centrifugal exhaust fan; air compressors; air-compressor hardware for industrial air-compression equipment; metal wire fan finger guards; industrial fans; heat exchangers; compact manifold assemblies used for distributing fluids or gases within manufacturing equipment; liquid centrifuges; water filtration equipment; liquid filtration equipment; air intake filters; mechanical subassemblies incorporated into industrial machinery for filling, sealing, labeling, or packaging products; mechanical subassemblies incorporated into industrial printing machinery for ink application, image transfer, or media handling; laser-operated machine tools; water jet cutting machine; metalworking positioning tools; machine tool attachments; portable automatic data processing machines; automatic data processing units; data processing units; adaptor units for automatic data processing machines; industrial robots; molding boxes for metal foundry use; injection molds for semiconductor devices; pressure reducing valves; pneumatic bank manifolds; pressure relief valves; gas delivery systems; bearing housings; couplings; mechanical seals; metal sheeting gaskets; gaskets; custom enclosure assembly; machines for flat panel manufacturing; gas line weldments; custom sheet metal fabrication; industrial valve system hardware; direct current electric motors; single-phase alternating current electrical motors; multi-phase alternating current electrical motors; power supply hardware; welding machine hardware; electric heating apparatuses; heater assemblies; thermocouples; switching equipment; audio frequency electric amplifiers; solid state storage devices; liquid crystals; digital video cameras; fire alarm systems; indicator panels with display screens; ceramic multilayer capacitors; printed circuit boards; high voltage automatic circuit breakers; electrical relays; optical cable connectors; electronic integrated circuit assemblies; electrical spacers; insulated electrical winding wires; coaxial electrical cables; ignition wire sets; insulated metal-core wire with non-metallic jacket; insulated electrical wires; electrical insulators; fiber optic assemblies; electronic depth gauge; mass flow meters; probe cable assemblies; adaptor base assemblies; automatic thermostats; hydraulic control instruments; and, pneumatic control instruments (duty rate ranges from duty-free to 20%).

The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign (PF) status (19 CFR 146.41). The request also indicates that welded cold-drawn circular non-alloy steel tubing is subject to an antidumping/countervailing duty (AD/CVD) order/investigation if imported from the People's Republic of China. The Board's regulations (15 CFR 400.13(c)(2)) require that merchandise subject to AD/CVD orders, or items which would be otherwise subject to suspension of liquidation under AD/CVD procedures if they entered U.S. customs territory, be admitted to the zone in PF status (19 CFR 146.41).

Public comment is invited from interested parties. Submissions shall be addressed to the Board's Executive Secretary and sent to: ftz@trade.gov. The closing period for their receipt is April 6, 2026.

A copy of the notification will be available for public inspection in the “Online FTZ Information System” section of the Board's website.

For further information, contact Brian Warnes at brian.warnes@trade.gov.

Dated: February 20, 2026.
Elizabeth Whiteman,
Executive Secretary.

[FR Doc. 2026-03683 Filed 2-23-26; 8:45 am]

BILLING CODE 3510-DS-P